DEPARTMENT OF THE INTERIOR

National Park Service

National Register of Historic Places; Notification of Pending Nominations and Related Actions

Nominations for the following properties being considered for listing or related actions in the National Register were received by the National Park Service before November 24, 2007. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by December 26, 2007.

J. Paul Loether,
Chief, National Register of Historic Places/National Historic Landmarks Program.

ARIZONA

Gila County

Our Lady of the Blessed Sacrament Church, 914 Sullivan St., Miami, 07001332.

Maricopa County

Frankenberg House, 2222 S Price Rd., Tempe, 07001333.

Phoenix Towers, 2201 N Central Ave., Phoenix, 07001334.

Pima County

El Montevideo Historic District (Boundary Increase), Roughly bounded by 5th St., Broadway Blvd., Alvernon Way & Ridge Dr., Tucson, 07001335.

GEORGIA

Houston County

Warner Robins Depot, 1st St., Warner Robins, 07001336.

Rabun County

Powell, William E. and Sarah Dillard House, 219 Boxwood Terrace, Dillard, 07001337.

MISSOURI

Adair County

Trinity Episcopal Church, 124 N Mulanix St., Kirksville, 07001338.

Holt County

St. John's Evangelical Lutheran Church and Parochial School, 112 Walters St., Corning, 07001339.

Randolph County

Moberly Junior High School, 101 N Johnson St., Moberly, 07001340.

NORTH DAKOTA

Barnes County

Valley City Municipal Auditorium, 320 Central Ave. S., Valley City, 07001341.

RHODE ISLAND

Providence County

Broadway—Armory Historic District, 144-146, 148, 150, 156-158 Broadway & 226, 230 Dean St., Providence, 07001342.

Greystone Historic District, 1-16 Beckside Rd., 1-29 Greystone Ave., 1-24 Oakleigh Ave., 1-40, Langsberries Ave., 2-20 Larchmount Ave N, 1-16 S., North Providence, 07001343.

VERMONT

Caledonia County

Fairbanks Museum, 1302 Main St., St. Johnsbury, 07001344.

Union Meeting House, (Religious Buildings, Sites and Structures in Vermont MPS), 2614 Burke Hollow Rd., Burke, 07001345.

Windham County

Rockingham Village Historic District, Meeting House Rd., Rockingham Hill Rd., Rockingham, 07001346.

WISCONSIN

Milwaukee County

Spencerian Business College, 2800 W Wright St., Milwaukee, 07001347.

A request for removal has been made for the following resources:

OREGON

Multnomah County

Ladd Carriage House, 1331 SW Broadway, Portland, 8003369.

Parker, C.W., Four-Row Park Carousel, 1492 Jantzen Beach Center, Portland, 87001381.

Trinity Lutheran Church and School, 108 NE Ivy, Portland, 80003377.

[FR Doc. 07-5995 Filed 12-7-07; 8:45 am]

BILLING CODE 4312-51-M